DEPARTMENT OF JUSTICE

Drug Enforcement Administration

David H. Mills, D.V.M.; Revocation of Registration

On July 6, 2001, the Deputy Assistant Administrator, Office of Diversion Control, Drug Enforcement Administration (DEA), issued an Order to Show Cause (OTSC) by certified mail to David H. Mills, D.V.M., (Respondent) notifying him of an opportunity to show cause as to why the DEA should not revoke his DEA Certificate of Registration BM4863812, pursuant to 21 U.S.C. 824(a)(3), and deny any pending applications for renewal or modification of this registration, pursuant to 21 U.S.C. 823(f), for the reasons that Respondent's state medical license has been suspended, and Respondent is not currently authorized to practice veterinary medicine or to handle controlled substances in Wisconsin, the state in which he is registered.

By letter dated August 10, 2001, Respondent requested a hearing in this matter. On September 14, 2001, the Government filed a Request for Stay of Proceedings and Motion for Summary Disposition (Government's Motion). By Order dated September 20, 2001, Administration Law Judge Gail A. Randall (Judge Randall) granted Respondent until October 4, 2001 to respond to the Government's Motion. Subsequently, by Order dated November 28, 2001, Respondent was granted until December 5, 2001, to respond to the Government's Motion. The Order was sent certified mail, return receipt requested. Yet while Judge Randall's office received a signed and dated receipt indicating this Order was received December 3, 2001, Respondent failed to file a response to the Government's Motion.

The Government attached to its Motion a copy of the Final Decision and Order of the State of Wisconsin (Order), Veterinary Examining Board (Board), dated February 1, 2001, revoking Respondent's license to practice veterinary medicine. The Government also attached to its Motion a declaration of the custodian of records for the Board, verifying that, as of February 1, 2001, Respondent's veterinary license had been revoked.

On January 8, 2002, Judge Randall issued her Recommended Rulings, Findings of Fact, Conclusions of Law, and Decision of the Administrative Law Judge (Recommended Ruling), wherein she granted the Government's Motion and recommended that Respondent's DEA registration be revoked. The record of these proceedings was subsequently transmitted to the Deputy Administrator for final decision February 12, 2002.

The Deputy Administrator has considered the record in its entirety, and pursuant to 21 CFR 1316.67, hereby issues his final order based upon findings of fact and conclusions of law as hereinafter set forth. The Deputy Administrator adopts in full the Recommended Ruling of the Administrative Law Judge.

The DEA does not have the statutory authority pursuant to the Controlled Substances Act to issue or to maintain a registration if the applicant or registrant is without state authority to handle controlled substances in the state in which he or she practices. See 21 U.S.C. 802(21), 823(f), and 824(a)(3). This prerequisite has been consistently upheld in prior DEA cases. See Graham Travers Schuler, M.D., 65 FR 50,570 (2000); Romeo J. Perez, M.D., 62 FR 16,193 (1997); Demetris A. Green, M.D., 61 FR 60,728 (1996); Dominick A. Ricci, M.D., 58 FR 51,104 (1993).

In the instant case, the Deputy Administrator finds the Government has presented undisputed evidence demonstrating that the Respondent is not authorized to practice veterinary medicine in the State of Wisconsin, the location of his business as stated on his DEA Certificate of Registration. The Deputy Administrator concurs with Judge Randall's finding that, as Respondent is not authorized to practice veterinary medicine in Wisconsin, it is reasonable to infer that Respondent likewise is not authorized to handle controlled substances in Wisconsin. James D. Okun, 62 FR 16,871 (1997). Without state authority to handle controlled substances, the Respondent is not eligible to possess a DEA registration for a place of business in Wisconsin.

The Deputy Administrator also concurs with Judge Randall's finding that it is well settled that when there is no question of material fact involved, there is no need for a plenary, administrative hearing. Congress did not intend for administrative agencies to perform meaningless tasks. See Michael G. Dolin, M.D., 65 FR 5,661 (2000); Jesus R. Juarez, M.D., 62 FR 14,945 (1997); see also Philip E. Kirk, M.D., 48 FR 32,887 (1983), aff'd sub nom. Kirk v. Mullen, 749 F.2d 297 (6th Cir. 1984).

Accordingly, the Deputy Administrator of the Drug Enforcement Administration, pursuant to the authority vested in him by 21 U.S.C. 823 and 824 and 28 CFR 0.100(b) and 0.104, hereby orders that DEA Certificate of Registration BM4863812, issued to David H. Mills, D.V.M., be, and it hereby is, revoked; and that any pending applications for the renewal or modification of said Certificate be, and hereby are, denied.

This order is effective June 19, 2002.

Dated: May 6, 2002.
John B. Brown III,
Deputy Administrator.

[FR Doc. 02-12487 Filed 5-17-02; 8:45 am]

BILLING CODE 4410-09-M